NATIONAL SCIENCE FOUNDATION

Proposal Review Panel for Materials Research; Notice of Meeting

In accordance with the Federal Advisory Committee Act (Pub. L. 92-463 as amended), the National Science Foundation announces the following meeting:

NAME: Proposal Review Panel for Materials Research (DMR) #1203.

DATES & TIMES: September 27, 2005; 7 p.m.-8:30 p.m. (closed)

September 28, 2005; 7:45 a.m.-9 p.m. (open 7:45 a.m.-11:45 a.m., 12:45 p.m.-4:45 p.m., 6:15 p.m.-7 p.m.

September 29, 2005; 8 a.m.-4 p.m. (open 9 a.m.-10:45 a.m.)

PLACE: Massachusetts Institute of Technology, Cambridge, MA.

TYPE OF MEETING: Part Open.

CONTACT PERSON: Dr. Ulrich Strom, Program Director, Materials Research Science and Engineering Centers, Division of Materials Research, Room 1065, National Science Foundation, 4201 Wilson Boulevard, Arlington, VA 22230, Telephone (703) 292-4938.

PURPOSE OF MEETING: To provide advice and recommendations concerning progress of Materials Research Science and Engineering Center.

AGENDA: September 27, 2005—Closed to brief site visit panel

September 28-29, 2005—Open for Directors overview of Materials Research Science and Engineering Center and presentations. Closed to review and evaluate progress of Materials Research Science and Engineering Center.

REASON FOR CLOSING: The work being reviewed may include information of a proprietary or confidential nature, including technical information; financial data, such as salaries and personal information concerning individuals associated with the proposals. These matters are exempt under 5 U.S.C. 552b(c), (4) and (6) of the Government in the Sunshine Act.

Dated: August 25, 2005.
Susanne Bolton,
Committee Management Officer.

[FR Doc. 05-17219 Filed 8-29-05; 8:45 am]

BILLING CODE 7555-01-M